DEPARTMENT OF COMMERCE

National Oceanic and Atmospheric Administration

Agency Information Collection Activities; Submission to the Office of Management and Budget (OMB) for Review and Approval; Comment Request; Economic Surveys of the Commercial and Charter Fishing Sectors of Federally Managed Fisheries

AGENCY: National Oceanic and Atmospheric Administration (NOAA), Commerce.

ACTION: Notice.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 4, 2022.

ADDRESSES: Interested persons are invited to submit written comments to Adrienne Thomas, NOAA PRA Officer, at Adrienne.thomas@noaa.gov. Do not submit Confidential Business Information or otherwise sensitive or protected information.

FOR FURTHER INFORMATION CONTACT: Requests for additional information or specific questions related to collection activities should be directed to Dr. Joe Terry, Office of Science and Technology, 1315 East-West Hwy., Bldg. SSMC3, Silver Spring, MD 20910-3282, (858) 454 -2547, joe.terry@noaa.gov.

SUPPLEMENTARY INFORMATION:

I. Abstract

This request is for a new information collection.

The Office of Science and Technology is sponsoring this collection. Economic surveys will be conducted for the commercial and charter fishing sectors of federally managed fisheries of the United States.

The requested information will include different components of operating costs/expenditures, earnings, employment, ownership, vessel characteristics, effort/gear descriptors, employment, and demographic information. The information will be collected from the owners and operators of fishing vessels that participated in the commercial and/or charter fishing sectors, where the vessels that participated in the charter sector include guide boats, 6-pack boats, charter boats, commercial passenger fishing vessels, and party/head boats.

A variety of laws, Executive Orders (E.O.s), and NOAA Fisheries strategies and policies include requirements for economic data and the analyses they support. When met adequately, those requirements allow better-informed conservation and management decisions on the use of living marine resources and marine habitat in federally managed fisheries. Obtaining these data improves the ability of NOAA Fisheries and the Regional Fishery Management Councils (Councils) to monitor, explain and predict changes in the economic performance and impacts of federally managed fisheries. Measures of economic performance include costs, earnings, and profitability (net revenue); productivity and economic efficiency; capacity; economic stability; the level and distribution of net economic benefits to society; and market power. The economic impacts include sector, community or region-specific and national employment, sales, value-added, and income impacts. Economic data are required to support more than a cursory effort to comply with or support the following laws, E.O.s, and NOAA Fisheries strategies and policies:

1. The Magnuson-Stevens Fishery Conservation and Management Act (MSA)

2. The Marine Mammal Protection Act (MMPA)

3. The Endangered Species Act (ESA)

4. The National Environmental Policy Act (NEPA)

5. The Regulatory Flexibility Act (RFA)

6. E.O. 12866 (Regulatory Planning and Review)

7. E.O. 13771 (Reducing Regulation and Controlling Regulatory Costs)

8. E.O. 12898 (Federal Actions to Address Environmental Justice in Minority Populations and Low-Income Populations)

9. E.O. 13840 (Ocean Policy to Advance the Economic, Security, and Environmental Interests of the United States)

10. The NOAA Fisheries Guidelines for Economic Reviews of Regulatory Actions

11. The NOAA Fisheries Strategic Plan 2019-2022 (Strategic Plan)

12. The NOAA Fisheries Ecosystem-Based Fishery Management (EBFM) Road Map

13. The NOAA Fisheries National Bycatch Reduction Strategy

14. NOAA's Catch Share Policy

Data collections will focus each year on a different set of fisheries. This cycle of data collection will facilitate economic data being available and updated for all federally managed fisheries.

There will be an effort to coordinate the data collections in order to reduce the additional burden for those who participate in multiple fisheries. To further reduce the burden, the requested information for a specific fishery will be limited to that which is not available from other sources. Participation in these data collections will be voluntary.

II. Method of Collection

The information will be collected by mail, internet, phone, video call, and in-person interviews. Where feasible, survey respondents will have the option to respond to an on-line survey. If phone and in-person interviews are not feasible or not desired by the potential respondents, the information will be collected by mail or internet.

III. Data

OMB Control Number: 0648-XXXX.

Form Number(s): None.

Type of Review: Regular submission (a new collection).

Affected Public: Individuals or households and business or other for-profit organizations.

Estimated Number of Respondents: 7,052.

Estimated Time per Response: 55 minutes.

Estimated Total Burden Hours: 6,464.

Estimated Total Annual Cost to Public: $0.

Respondent's Obligation: Voluntary.

Legal Authority: The Magnuson-Stevens Fishery Conservation and Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-26362 Filed 12-3-21; 8:45 am]

BILLING CODE 3510-22-P